DEPARTMENT OF ENERGY

Federal Energy Regulatory Commission

[Docket No. EL03-135-001]

Connecticut Light and Power Company; Notice of Initiation of Proceeding and Refund Effective Date

July 10, 2003.

Take notice that on July 8, 2003, the Commission issued an order initiating a proceeding under Section 206 of the Federal Power Act in Docket No. EL03-135-001 .

The refund effective date in Docket No. EL03-135-001 will be 60 days after publication of this notice in the Federal Register.

Magalie R. Salas,
Secretary.

[FR Doc. 03-18019 Filed 7-16-03; 8:45 am]

BILLING CODE 6717-01-P